AGENCY FOR INTERNATIONAL DEVELOPMENT

Senior Executive Service: Membership of Performance Review Board

ACTION: Notice.

SUMMARY: The following persons are members of the Performance Review Board for 2003.

Members: Arnold J. Haiman, Chair, Drew W. Luten, SES Member, James E. Painter, SES Member, Jessalyn L. Pendarvis, SES Member, Adrienne R. Rish, SES Member.

FOR FURTHER INFORMATION CONTACT: Dan Stoll, 202-712-1076.

Dated: November 21, 2003.
Irma Marshall,
Human Resource Specialist.

[FR Doc. 03-29620 Filed 12-2-03; 8:45 am]

BILLING CODE 6116-01-P